DEPARTMENT OF THE INTERIOR

Bureau of Ocean Energy Management, Regulation and Enforcement

[Docket No. BOEM-2011-0008]

Commercial Leasing for Wind Power on the Outer Continental Shelf (OCS) Off Delaware, Determination of No Competitive Interest

AGENCY: Bureau of Ocean Energy Management, Regulation and Enforcement (BOEMRE), Interior.

ACTION: Notice.

SUMMARY: This notice provides BOEMRE's determination that no competitive interest exists in acquiring a commercial wind lease in the area offshore Delaware proposed in the January 26, 2011, Notice of Proposed Lease Area and Request for Competitive Interest (RFCI) (76 FR 4716). The location of a proposed lease area was identified through the issuance of a Request for Interest (RFI) in the Federal Register on April 26, 2010 (75 FR 21653).

Bluewater Wind Delaware, LLC submitted the only valid expression of commercial interest in response to the April 26, 2010, RFI and BOEMRE received no additional expressions of interest in response to the January 26, 2011, RFCI. BOEMRE will proceed with the noncompetitive lease process for the proposed lease area offshore Delaware as described in the RFCI.

This DNCI is published pursuant to subsection 8(p)(3) of the OCS Lands Act, which was added by section 388 of the Energy Policy Act of 2005 (EPAct) (43 U.S.C. 1337(p)(3)), and the implementing regulations at 30 CFR part 285. Subsection 8(p)(3) of the OCS Lands Act requires that OCS renewable energy leases, easements, and rights-of-way be issued “on a competitive basis unless the Secretary determines after public notice of a proposed lease, easement, or right-of-way that there is no competitive interest.” The authority to make such determinations has been delegated to BOEMRE. This DNCI provides notice to the public that BOEMRE has determined that there is no competitive interest in leasing the proposed area.

BOEMRE received public comment submissions from four parties in response to the January 26, 2011, RFCI. A discussion of these comments is found below.

DATES: Effective April 12, 2011.

FOR FURTHER INFORMATION CONTACT: Erin C. Trager, Projects and Coordination Branch, Bureau of Ocean Energy Management, Regulation and Enforcement, Office of Offshore Alternative Energy Programs, 381 Elden Street, Mail Stop 4090, Herndon, Virginia 20170-4817; telephone (703) 787-1713.

SUPPLEMENTARY INFORMATION:

Purpose of This DNCI

This DNCI provides public notice that BOEMRE has determined that there is no competitive interest in acquiring a lease in the area described in the January 26, 2011, RFCI. Bluewater Wind Delaware, LLC submitted the only valid expression of commercial interest in response to the RFI and BOEMRE received no additional expressions of interest in response to the RFCI. As a result, no competitive interest exists in the proposed leasing area. Subsequent to the publication of this determination, BOEMRE may proceed with the noncompetitive lease process outlined at 30 CFR 285.231(d) through (i).

Summary of Public Comments Received in Response to the January 26, 2011, RFCI

On February 10, 2011, the comment period closed for the Delaware RFCI. BOEMRE received four responses during the public comment period, including comments from two groups representing waterway users, one marine waterway operator, and one company associated with the surf clam/ocean quahog fishing industry. Comments received in response to the RFCI are available at the following URL: http://www.boemre.gov/offshore/RenewableEnergy/stateactivities.htm#Delaware

Some of the comments received requested a change to the area of interest considered for leasing, and included suggestions such as identifying areas for exclusion, mitigation, or further study. Other comments suggested that BOEMRE undertake a more coordinated outreach effort with public stakeholders, to complement existing coordination efforts with government stakeholders in the BOEMRE/Delaware Renewable Energy Task Force. In addition, other comments expressed concern with navigational safety and socioeconomic impacts to the surf clam/ocean quahog fishery in the proposed lease area as a result of wind facility development.

In identifying a lease area for analysis under the National Environmental Policy Act, BOEMRE will consider excluding the area designated as a potential U.S. Coast Guard vessel anchorage area, first identified by the U.S. Coast Guard in its response to the Delaware RFI. Comments received from waterways operators in response to the Delaware RFCI indicate support for excluding a designated anchorage area from a proposed lease area to replace unofficial anchorage areas currently in use throughout the area of interest, which may be displaced by future development.

In response to concerns regarding the proposed 500-meter buffer between the proposed lease area and the adjacent Traffic Separation Scheme (TSS), BOEMRE has decided that additional information is needed to evaluate whether this proposed buffer should be widened. BOEMRE will collaborate with the U.S. Coast Guard to better quantify the amount and location of vessel activity and research ways to analyze the effects of wind energy facility infrastructure on marine vessel traffic in the area to better inform any future mitigation in a proposed lease area. If data suggest that heavy traffic transits within 0.5 nautical mile of the edge of the TSS, BOEMRE has the discretion to require a larger buffer either as a stipulation in the lease or as a condition of Construction and Operations Plan approval.

In response to concerns regarding potential impacts to the surf clam/quahog fishery in the area of interest, BOEMRE intends to consider potential impacts to the fishery in a proposed lease area as well as the industry associated with this fishery as part of our compliance process.

In response to requests that BOEMRE conduct outreach to the mariner and fishing communities, BOEMRE will continue its ongoing outreach efforts, including but not limited to, participation in meetings with the Mariners Advisory Committee for the Bay and River Delaware and outreach to the Mid-Atlantic Fishery Management Council and regulators of associated activities offshore Delaware.

Dated: March 29, 2011.
Michael R. Bromwich,
Director, Bureau of Ocean Energy Management, Regulation and Enforcement.

[FR Doc. 2011-8341 Filed 4-11-11; 8:45 am]

BILLING CODE 4310-MR-P